ENVIRONMENTAL PROTECTION AGENCY

[FRL-7242-3]

Agency Information Collection Activities: Submission for OMB Review; Comment Request; Hazardous Remediation Waste Management Requirements (HWIR-Media)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: “Hazardous Remediation Waste Management Requirements (HWIR-Media),” EPA ICR Number 1775.03; OMB Control Number 2050-0161; expiration date June 30, 2002. The ICR describes the nature of the information collection and its expected burden and cost; where appropriate, it includes the actual data collection instrument.

DATES: Comments must be submitted on or before August 5, 2002.

ADDRESSES: Send comments, referencing EPA ICR No. 1775.03 and OMB Control No. 2050-0161, to the following addresses: Susan Auby, U.S. Environmental Protection Agency, Collection Strategies Division (Mail Code 2822T), 1200 Pennsylvania Avenue, NW., Washington, DC 20460-001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by e-mail at auby.susan@epamail.epa.gov or download a copy of the ICR off the Internet at http://www.epa.gov/icr and refer to EPA ICR No. 1775.03. For technical questions about the ICR contact Mike Fitzpatrick at EPA by phone at (703) 308-8411 or by e-mail at fitzpatrick.mike@epa.gov.

SUPPLEMENTARY INFORMATION: Title: “Hazardous Remediation Waste Management Requirements (HWIR-Media),” OMB Control No. 2050-0161; EPA ICR No. 1775.03, expiration date June 30, 2002. This is a request for extension of a currently approved collection.

Abstract: All information collection activities required by this rule are authorized by sections 3004 and 3005 of the Solid Waste Disposal Act of 1970, as amended by the Resource Conservation and Recovery Act of 1976 (RCRA), as amended by the Hazardous and Solid Waste Amendments of 1984 (HSWA), 42 U.S.C. 6912(a), 6921, 6924, 6925, 6926, and 6927. EPA believes the information collection for this rule is necessary to balance streamlined regulations of remediation wastes with the Agency's responsibility to protect human health and the environment. The respondents are primarily owners or operators of facilities that wish to voluntarily clean up contamination of their site. The information to be collected includes the name, location and other identifying information for the site, a chemical and physical analysis of the waste or contaminated media to be managed, along with a plan for the management of such materials sufficient to determine whether the management of these materials will be protective of human health and the environment and will be in compliance with standards established pursuant to RCRA.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 20, 2002 (67 FR 12988); no comments were received.

Burden Statement: The annual public reporting and record keeping burden for this collection of information is estimated to average about 28 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Facility Owners and Operators of Hazardous Remediation Waste Management Sites.

Estimated Number of Respondents: 176.

Frequency of Response: Once.

Estimated Total Annual Hour Burden: 4,959 hours.

Estimated Total Annualized Capital, Operating/ Maintenance Cost Burden: $334.

Send comments on the Agency's need for this information, the accuracy of the provided burden estimates, and any suggested methods for minimizing respondent burden, including through the use of automated collection techniques to the addresses listed above. Please refer to EPA ICR No. 1775.03 and OMB Control No. 2050-0161 in any correspondence.

Dated: June 27, 2002.
Oscar Morales,
Director, Collection Strategies Division.

[FR Doc. 02-16862 Filed 7-3-02; 8:45 am]

BILLING CODE 6560-50-P